DEPARTMENT OF HOUSING AND URBAN DEVELOPMENT

[Docket No. FR-4644-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administration, Office of Property Disposal, 18th and F Streets, NW., Washington, DC 20405; (202) 501-0386; Army: Mr. Jeff Holste, Military Programs, U.S. Army Corps of Engineers, Installation Support Center Planning Branch, Attn: CEMP-IP, 441 G Street, NW., Washington, DC 20314-1000; (202) 761-5737; (These are not toll-free numbers).

Dated: March 8, 2001.
John D. Garrity,
Director, Office of Special Needs Assistance Programs.

TITLE V, FEDERAL SURPLUS PROPERTY PROGRAM FEDERAL REGISTER REPORT FOR 3/16/01

Suitable/Available Properties

Buildings (by State)

Alaska

Armory

NG Noorvik

Noorvik Co: AK 99763-

Landholding Agency: Army

Property Number: 21200110075

Status: Unutilized

Comment: 1200 sq. ft., most recent use—armory, off-site use only

Arizona

22 Bldgs.

Fort Huachuca

Sierra Vista Co: Cochise AZ 85635-

Location: #63002-63018, 64014-64018

Landholding Agency: Army

Property Number: 21200110076

Status: Excess

Comment: 2 & 3 bedroom family housing, presence of asbestos/lead paint, off-site use only

Bldg. 76910

Fort Huachuca

Sierra Vista Co: Cochise AZ 85635-

Landholding Agency: Army

Property Number: 21200110077

Status: Excess

Comment: 2001 sq. ft., presence of asbestos/lead paint, most recent use—office, off-site use only

Georgia

5 Bldgs.

Fort Gordon

Ft. Gordon Co: Richmond GA 30905-

Location: #34503, 34504, 34506, 34601, 34605

Landholding Agency: Army

Property Number: 21200110078

Status: Unutilized

Comment: various sq. ft., needs rehab, potential asbestos/lead paint, most recent use—residential, off-site use only

Illinois

Bldg. AR107

Sheridan Reserve

Arlington Heights Co: IL 6005-2475

Landholding Agency: Army

Property Number: 21200110079

Status: Unutilized

Comment: 4667 sq. ft., concrete, off-site use only

Bldg. AR111

Sheridan Reserve

Arlington Heights Co: IL 6005-2475

Landholding Agency: Army

Property Number: 21200110080

Status: Unutilized

Comment: 1000 sq. ft., off-site use only

Bldg. AR112

Sheridan Reserve

Arlington Heights Co: IL 60005-2475

Landholding Agency: Army

Property Number: 21200110081

Status: Unutilized

Comment: 1000 sq. ft., off-site use only

Indiana

Bldg. 111

Fort Ben Harrison

Indianapolis Co: IN 46216-1026

Landholding Agency: Army

Property Number: 21200110082

Status: Unutilized

Comment: 2921 sq. ft., most recent use—storage, off-site use only

New York

Bldg. T-251

Fort Drum

Ft. Drum Co: Jefferson NY 13602-

Landholding Agency: Army

Property Number: 21200110083

Status: Unutilized

Comment: 4720 sq. ft., needs repair, most recent use—barracks, off-site use only

Bldg. T-791

Fort Drum

Ft. Drum Co: Jefferson NY 13602-

Landholding Agency: Army

Property Number: 21200110084

Status: Unutilized

Comment: 1372 sq. ft., needs repair, most recent use—storage, off-site use only

North Carolina

Bldgs. A2864, A3164

Fort Bragg

Ft. Bragg Co: Cumberland NC 28310-5000

Landholding Agency: Army

Property Number: 21200110085

Status: Excess

Comment: 3056 sq. ft., needs rehab, presence of asbestos/lead paint, most recent use—admin., off-site use only

Bldgs. O-3551, O-3552

Fort Bragg

Ft. Bragg Co: Cumberland NC 28310-5000

Landholding Agency: Army

Property Number: 21200110086

Status: Excess

Comment: 1584 sq. ft., presence of asbestos/lead paint, most recent use—barracks, off-site use only

3 Bldgs.

Fort Bragg

#8-7003, 2-7404, 0-9030

Ft. Bragg Co: Cumberland NC 28310-5000

Landholding Agency: Army

Property Number: 21200110087

Status: Excess

Comment: small bldgs., needs rehab, presence of asbestos/lead paint, most recent use—storage/pumphouse, off-site use only

Pennsylvania

Uniontown Federal Bldg.

34 West Peter Street

Uniontown Co: Fayette PA 15401-3336

Landholding Agency: GSA

Property Number: 54200110011

Status: Excess

Comment: 24,031 sq. ft., office space, presence of asbestos/possible lead paint, historic property

GSA Number: 4-G-PA-789

Texas

Bldg. P-376

Fort Sam Houston

San Antonio Co: Bexar TX 78234-5000

Landholding Agency: Army

Property Number: 21200110090

Status: Excess

Comment: 2529 sq. ft., presence of asbestos/lead paint, most recent use—post exchange services, historic preservation requirements, off-site use only

Bldg. 1281

Fort Bliss

El Paso Co: TX 79916-

Landholding Agency: Army

Property Number: 21200110091

Status: Unutilized

Comment: 25,027 sq. ft., most recent use—cold storage, off-site use only

Bldg. 2542

Fort Bliss

El Paso Co: TX 79916-

Landholding Agency: Army

Property Number: 21200110092

Status: Unutilized

Comment: 3103 sq. ft., most recent use—gen. purpose, off-site use only

Bldg. 3656

Fort Bliss

El Paso Co: TX 79916-

Landholding Agency: Army

Property Number: 21200110093

Status: Unutilized

Comment: 1806 sq. ft., most recent use—igloo str. inst., off-site use only

Bldg. 7113

Fort Bliss

El Paso Co: TX 79916-

Landholding Agency: Army

Property Number: 21200110094

Status: Unutilized

Comment: 14,807 sq. ft., most recent use—nursery school, off-site use only

Bldg. 7133

Fort Bliss

El Paso Co: TX 79916-

Landholding Agency: Army

Property Number: 21200110095

Status: Unutilized

Comment: 11,650 sq. ft., most recent use—storage, off-site use only

Bldg. 7136

Fort Bliss

El Paso Co: TX 79916-

Landholding Agency: Army

Property Number: 21200110096

Status: Unutilized

Comment: 11,755 sq. ft., most recent use—vet facility, off-site use only

Bldg. 7146

Fort Bliss

El Paso Co: TX 79916-

Landholding Agency: Army

Property Number: 21200110097

Status: Unutilized

Comment: most recent use—oil storage, off-site use only

Bldg. 7147

Fort Bliss

El Paso Co: TX 79916-

Landholding Agency: Army

Property Number: 21200110098

Status: Unutilized

Comment: most recent use—oil storage, off-site use only

Bldg. 7153

Fort Bliss

El Paso Co: TX 79916-

Landholding Agency: Army

Property Number: 21200110099

Status: Unutilized

Comment: 11924 sq. ft., most recent use—bowling center, off-site use only

Bldg. 7162

Fort Bliss

El Paso Co: TX 79916-

Landholding Agency: Army

Property Number: 21200110100

Status: Unutilized

Comment: 3956 sq. ft., most recent use—development center, off-site use only

Bldg. 11116

Fort Bliss

El Paso Co: TX 79916-

Landholding Agency: Army

Property Number: 21200110101

Status: Unutilized

Comment: 20,100 sq. ft., most recent use—storage, off-site use only

Bldg. 11127

Fort Bliss

El Paso Co: TX 79916-

Landholding Agency: Army

Property Number: 21200110102

Status: Unutilized

Comment: 9172 sq. ft., most recent use—storage, off-site use only

Land (by State)

South Carolina

One Acre

Fort Jackson

Columbia Co: Richland SC 29207-

Landholding Agency: Army

Property Number: 21200110089

Status: Underutilized

Comment: approx. 1 acre

Unsuitable Properties

Buildings (by State)

Ohio

Bldg. 206

Defense Supply Center

Columbus Co: Franklin OH 43216-5000

Landholding Agency: Army

Property Number: 21200110088

Status: Unutilized

Reason: Extensive deterioration

Land (by State)

Alaska

2.3 acre site

Dillingham Small Boat Harbor

Dillingham Co: AK

Landholding Agency: GSA

Property Number: 54200110010

Status: Excess

Reason: Within 2000 ft. of flammable or explosive material

GSA Number: 9-D-AK-757

[FR Doc. 01-6254 Filed 3-15-01; 8:45 am]

BILLING CODE 4210-29-M